DEPARTMENT OF ENERGY

National Nuclear Security Administration

Amendment to and Addition of Property for the Kansas City National Security Campus (KCNSC) New Mexico Operations (NMO)

AGENCY: National Nuclear Security Administration (NNSA), U.S. Department of Energy (DOE).

ACTION: Notice of amendment to, and addition of, Craddock B and Craddock D properties at KCNSC NMO.

SUMMARY: DOE gives notice Federal law and regulations prohibits the unauthorized entry (trespass) and the unauthorized introduction of weapons or dangerous materials into or upon any facility, installation, or real property subject to the jurisdiction, administration, or in the custody of DOE. The Craddock B and Craddock D properties described here are subject to the jurisdiction, administration, or in the custody of DOE.

DATES: This action is effective May 13, 2025.

FOR FURTHER INFORMATION CONTACT:

Michael Hogan, Officially Designated Federal Security Authority (ODFSA), Kansas City Field Office (KCFO), 14520 Botts Road, Kansas City, MO 64147, Telephone: (816) 488-3919, Fax: (816) 488-3718, mhogan2@kcnsc.doe.gov.

Randy Butler, Site Counsel, KCFO, 14520 Botts Road, Kansas City, MO 64147, Telephone: (816) 488-7177, Fax: (816) 488-3718, rbutler@kcnsc.doe.gov.

SUPPLEMENTARY INFORMATION: As successor to the Atomic Energy Commission, DOE provided public notice of KCNSC's Kansas City area locations and its predecessor named properties and KCNSC's NMO locations and its predecessor named properties section 229 boundaries at various times in the Federal Register: Kansas City Area Office Site, Trespassing on Commission Property. 30 FR 13280 (Oct. 19, 1965); Trespassing on DOE Property; Designation of Kansas City Plant Facilities as Off-Limits Areas, 48 FR 56822-568224 (Nov. 23, 1983); Notice of Addition of Property for the Kansas City Plant Facilities, 77 FR 65376-65377 (Oct. 26, 2012); Trespassing on DOE Property: Kansas City Plant Facilities, 78 FR 70934-70935 (Nov. 27, 2013); and Addition of Property for the Kansas City Plant Facilities, 88 FR 37048-37049 (Jun. 6, 2023). This notice does not terminate the KCNSC NMO site descriptions published at 78 FR 70934-70935 (Nov. 27, 2013).

Per section 229 of the Atomic Energy Act of 1954, as amended (42 U.S.C. 2278a) and implemented by Trespassing on Department of Energy Property, 10 CFR 860, DOE prohibits the: (1) unauthorized entry (trespass); and, (2) unauthorized introduction of weapons or dangerous materials to include carrying, transporting, or otherwise introducing or causing to be introduced any dangerous weapon, explosive, or other dangerous instrument or material likely to produce substantial injury or damage to persons or property. Whoever willfully violates either prohibition shall, upon conviction, be guilty of an infraction punishable as defined in 10 CFR 860.5, Violations and Penalties, and whoever willfully violates either prohibition regarding any facility, installation, or real property enclosed by a fence, wall, floor, roof, or other structural barrier shall, upon conviction, be guilty of a crime and fined as defined in 10 CFR 860.5.

Amendment: DOE amends the existing KCNSC NMO boundary first added at 78 FR 70934-70935 (Nov. 27, 2013): amendment to the existing 229 boundary the KCNSC NMO tract described further in the Property Description, Craddock B.

Property Description: Craddock B

2460 Alamo Avenue SE Albuquerque, Bernalillo County, NM—Legal Description: TR Z-4-A replat of tract Z-4 & A-1 Airport Industrial Park to TRS A-4-A, A-1-A, A-1-B & A-1-C of Airport Industrial Park containing 1.5470 AC MIL OR 67,390 square feet milieu (SF MIL) consisting of approximately 23,040 square feet of warehouse including the means of access thereto and egress therefrom along ways controlled by lessor and together with the use of outside perimeter and grounds appurtenant to the building for purposes of parking employees, visitors, and guests and in addition thereto, described collectively as the leased premises to be used for administrative offices, engineering, production, maintenance and repair, and storage for such other lawful purposes as may be incidental thereto.

Addition: DOE adds to the existing boundary first described at 78 FR 70934-70935 (Nov. 27, 2013): add to the existing 229 boundary the KCNSC NMO tract described further in the Property Description, Craddock D.

Property Description: Craddock D

2400 Alamo Avenue SE, Albuquerque, Bernalillo County NM—Legal description: Tract Z-2, Airport Park consisting a 17,200 square foot warehouse including the means of access thereto and egress therefrom along ways controlled by lessor and together with the use of outside perimeter and grounds appurtenant to the building for purposes of parking employees, visitors, and guests and in addition thereto, eased premises to be used for administrative offices, engineering, production, maintenance and repair, and storage for such other lawful purposes as may be incidental thereto.

Signing Authority

This document of the Department of Energy was signed on May 2, 2025, by Michael Hogan, Officially Designated Federal Security Authority, KCFO, pursuant to delegated authority from the Secretary of Energy. That document with the original signature and date is maintained by DOE. For administrative purposes only, and in compliance with requirements of the Office of the Federal Register, the undersigned DOE Federal Register Liaison Officer is authorized to sign and submit the document in electronic format for publication, as an official document of the Department of Energy. This administrative process does not alter the legal effect of this document on publication in the Federal Register.

Signed in Washington, DC, on May 8, 2025.
Jennifer Hartzell,
Alternate Federal Register Liaison Officer, U.S. Department of Energy.

[FR Doc. 2025-08381 Filed 5-12-25; 8:45 am]

BILLING CODE 6450-01-P